DEPARTMENT OF ENERGY

Federal Energy Regulatory Commission

18 CFR Part 35

[Docket No. RM06-13-000]

Conditions for Public Utility Market-Based Rate Authorization Holders

AGENCY: Federal Energy Regulatory Commission.

ACTION: Final rule: correction.

SUMMARY: The document corrects an effective date in a final rule published in the Federal Register on February 27, 2006. That action amended Commission regulations to include certain rules governing the conduct of entities authorized to make sales of electricity and related products under market-based rate authorizations.

DATES: Effective February 27, 2006.

FOR FURTHER INFORMATION CONTACT: Frank Karabetsos, Federal Energy Regulatory Commission, 888 First Street, NE., Washington, DC, (202) 502-8273, Frank.Karabetsos@ferc.gov.

SUPPLEMENTARY INFORMATION: In FR Doc. 06-1719 published on February 27, 2006 (71 FR 9698), make the following correction:

On page 9698, in column 2, under the heading DATES correct the effective date to read, “February 27, 2006.”

Magalie R. Salas,
Secretary.

[FR Doc. 06-2153 Filed 3-6-06; 8:45 am]

BILLING CODE 6717-01-P